DEPARTMENT OF JUSTICE

Parole Commission

Sunshine Act Meetings

TIME AND DATE: 1:00 p.m., Wednesday, June 19, 2019.

PLACE: U.S. Parole Commission, 90 K Street NE, 3rd Floor, Washington, DC.

STATUS: Open.

MATTERS TO BE CONSIDERED: Approval of September 26, 2018; reports from the Chairman, the Commissioners, and senior staff.

CONTACT PERSON FOR MORE INFORMATION: Jacqueline Graham, Staff Assistant to the Chairman, U.S. Parole Commission, 90 K Street NE, 3rd Floor, Washington, DC 20530, (202) 346-7001.

Dated: June 10, 2019.
Patricia K. Cushwa,
Acting Chairperson, U.S. Parole Commission.

[FR Doc. 2019-12521 Filed 6-10-19; 4:15 pm]

BILLING CODE 4410-31-P